ENVIRONMENTAL PROTECTION AGENCY

[EPA-HQ-OAR-2020-0658; FRL-12845-01-OMS]

Agency Information Collection Activities; Submission to the Office of Management and Budget for Review and Approval; Comment Request; NSPS for the Phosphate Fertilizer Industry (Renewal)

AGENCY: Environmental Protection Agency (EPA).

ACTION: Notice.

SUMMARY: The Environmental Protection Agency (EPA) has submitted an information collection request (ICR), NSPS for the Phosphate Fertilizer Industry (EPA ICR Number 1061.16, OMB Control Number 2060-0037) to the Office of Management and Budget (OMB) for review and approval in accordance with the Paperwork Reduction Act. This is a proposed extension of the ICR, which is currently approved through June 30, 2025. Public comments were previously requested via the Federal Register on August 6, 2024 during a 60-day comment period. This notice allows for an additional 30 days for public comments.

DATES: Comments may be submitted on or before July 21, 2025.

ADDRESSES: Submit your comments, referencing Docket ID Number EPA-HQ-OAR-2020-0658, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through June 30, 2025. An agency may not conduct or sponsor and a person is not required to respond to a collection of information unless it displays a currently valid OMB control number.

Public comments were previously requested via the Federal Register on August 6, 2024 during a 60-day comment period (89 FR 63933). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The New Source Performance Standards (NSPS) for Phosphate Fertilizer Industry (40 CFR part 60, subparts T, U, V, W, and X) apply to both existing facilities and new facilities that engage in the manufacture of phosphate fertilizers (wet-process phosphoric acid plants, super-phosphoric acid plants, diammonium phosphate plants, and triple superphosphate plants), and have a design capacity of more than 15 tons of equivalent phosphorous pentoxide (P2O5) feed per calendar day. These standards also apply to both new and existing facilities that store granular triple superphosphate. These same standards establish fluoride emission limitations as a measure of phosphorus-bearing feed material at affected facilities. The affected facilities may include a combination of reactors, filters, evaporators, hot wells, acid sumps, cooling tanks, granulators, dryers, coolers, screens, mills, mixers, curing belts (dens), coolers, and facilities which store run-of-pile triple superphosphate, depending on the type of plant. New facilities include those that commenced construction, modification, or reconstruction after the date of proposal. This information is being collected to assure compliance with 40 CFR part 60, subpart T, U, V, W, and X.

Form Numbers: None.

Respondents/affected entities: Owners and operators of phosphate fertilizer manufacturing facilities.

Respondent's obligation to respond: Mandatory (40 CFR part 60, subparts T, U, V, W, and X).

Estimated number of respondents: 13 (total).

Frequency of response: Initially, semiannually.

Total estimated burden: 1,390 hours (per year). Burden is defined at 5 CFR 1320.03(b).

Total estimated cost: $701,000 (per year), which includes $511,000 annualized capital or operation & maintenance costs.

Changes in the Estimates: There is no change in hours in the total estimated respondent burden compared with the ICR currently approved by OMB. This is due to two considerations. First, the regulations have not changed over the past three years and are not anticipated to change over the next three years. Second, the growth rate for this industry is very low or non-existent, so there is no significant change in the overall burden. There is an increase in capital and operation & maintenance costs due to an adjustment to increase using the CEPCI Equipment Cost Index.

Courtney Kerwin,
Director, Information Engagement Division.

[FR Doc. 2025-11380 Filed 6-18-25; 8:45 am]

BILLING CODE 6560-50-P